DEPARTMENT OF JUSTICE

Drug Enforcement Administration

Douglas W. Wooldridge, M.D.; Revocation of Registration

On March 18, 2002, the Deputy Assistant Administrator, Office of Diversion Control, Drug Enforcement Administration (DEA), issued an Order to Show Cause to Douglas W. Wooldridge, M.D. (Dr. Wooldridge) of Wellesley Hills, Massachusetts, notifying him of an opportunity to show cause as to why DEA should not revoke his DEA Certificate of Registration, AW1232088 under 21 U.S.C. 824(a), and deny any pending applications for renewal of that registration pursuant to 21 U.S.C. 823(f). As a basis for revocation, the Order to Show Cause alleged that Dr. Wooldridge is not currently authorized to practice medicine or handle controlled substances in the Commonwealth of Massachusetts, the state in which he practices. The order also notified Dr. Wooldridge that should no request for a hearing be filed within 30 days, his hearing right would be deemed waived.

The Order to Show Cause was sent by certified mail to Dr. Wooldridge at his registered location in Wellesley Hills, Massachusetts. On June 6, 2002, DEA received a signed receipt notification indicating that the Order to Show Cause was apparently forwarded from Dr. Wooldridge's registered location to a second location where it was received by a John Wooldridge on March 27, 2002. DEA has not received a request for hearing or any other reply from Dr. Wooldridge or anyone purporting to represent him in this matter. Therefore, the Deputy Administrator, finding that (1) 30 days have passed since the receipt of the Order to Show Cause, and (2) no request for a hearing having been received, concludes that Dr. Wooldridge is deemed to have waived his hearing right. After considering material from the investigative file in this matter, the Deputy Administrator now enters his final order without a hearing pursuant to 21 CFR 1301.43(d) and (e) and 1301.46.

The Deputy Administrator finds that Dr. Wooldridge currently possesses DEA Certificate of Registration AW1232088 and that registration remains valid until May 31, 2003. The Deputy Administration further finds that by Order dated June 13, 2001, the Massachusetts Board of Registration in Medicine (Board) ordered the suspension of Dr. Wooldridge's medical license. The suspension order arose out of Dr. Wooldridge's apparent failure to comply with terms of a probation agreement that he entered into with the Board on March 3, 1999.

The investigative file contains no evidence that the Board's suspension order has been stayed or that Dr. Wooldridge's medical license has been reinstated. Therefore, the Deputy Administrator finds that Dr. Wooldridge is not currently authorized to practice medicine in the Commonwealth of Massachusetts. As a result, it is reasonable to infer that he is also without authorization to handle controlled substances in Massachusetts.

DEA does not have statutory authority under the Controlled Substances Act to issue or maintain a registration if the applicant or registrant is without state authority to handle controlled substances in the state in which he conducts business. See 21 U.S.C. 802(21), 823(f) and 824(a)(3). This prerequisite has been consistently upheld. See Muttaiya Darmarajeh, M.D., 66 FR 52936 (2001); Dominick A. Ricci, M.D., 58 FR 51104 (1993); Bobby Watts, M.D., 53 FR 11919 (1988).

Here, it is clear that Dr. Wooldridge's medical license has been suspended, and as a result, he is not licensed to handle controlled substances in the Commonwealth of Massachusetts where he is registered with DEA. Therefore, he is not entitled to a DEA registration in that state.

Accordingly, the Deputy Administrator of the Drug Enforcement administration, pursuant to the authority vested in him by 21 U.S.C. 823 and 824 and 28 CFR 0.100(b) and 0.104, hereby orders that DEA Certificate of Registration AW1232088, issued to Douglas W. Wooldridge, M.D. be, and it hereby is, revoked. The Deputy Administrator further orders that any pending applications for renewal of such registration be, and they hereby are, denied. This order is effective April 14, 2003.

Dated: February 27, 2003.
John B. Brown III,
Deputy Administrator.

[FR Doc. 03-6101 Filed 3-12-03; 8:45 am]

BILLING CODE 4410-09-M